DEPARTMENT OF DEFENSE

Department of the Army, Corps of Engineers

Intent To Prepare an Environmental Impact Statement (EIS) for the Huntington Beach Bluff-Top Storm Damage Reduction, Orange County, CA

AGENCY: U.S. Army Corps of Engineers, DOD.

ACTION: Notice of intent.

SUMMARY: The Los Angeles District intends to prepare an EIS to support the proposed storm damage reduction study at the Huntington Beach Bluff-Top area, Orange County, California. The purpose of the proposal is to identify measures that reduce or eliminate losses to facilities resulting from cliff erosion at the North, Central, and South Reaches of the bluff-top. The North, Central, and South Reaches encompass an 8,000-foot stretch of coast extending from the southern boundary of Bolsa Chica State Beach to 17th Street, and inland to the Pacific Coast Highway. Alternative measures for reducing or eliminating wave-induced damages to coastal development within the identified reaches include the relocation of facilities, construction of coastal structures such as seawalls or revetments, construction of offshore structures such as submerged breakwaters or nearshore mounds of sediment, and beach nourishment. The EIS will analyze potential impacts on the environmental range of alternatives, including the recommended plan.

FOR FURTHER INFORMATION CONTACT: For further information contact Ms. Stephanie Hall, Project Environmental Coordinator, (213) 452-3862, or Ms. Felicia Kirksey, Study Manager, (213) 452-3835.

SUPPLEMENTARY INFORMATION: The Army Corps of Engineers intends to prepare an EIS to assess the environmental effects associated with the proposed erosion mitigation measures at the North, Central and South Reaches of the Huntington Beach Bluff-Top, from the southern boundary of Bolsa Chica State Beach to 17th Street, and inland to the Pacific Coast Highway. The public will have the opportunity to comment on this analysis before any action is taken to implement the proposed action.

Scoping: The Army Corps of Engineers will conduct a scoping meeting prior to preparing the Environmental Impact Statement to aid in the determination of significant environmental issues associated with the proposed action. The public, as well as Federal, State, and local agencies, are encouraged to participate in the scoping process by submitting data, information, and comments identifying relevant environmental and socioeconomic issues to be addressed in the environmental analysis. Useful information includes other environmental studies, published and unpublished data, alternatives that could be addressed in the analysis, and potential mitigation measures associated with the proposed action.

A public scoping meeting will be held in the City of Huntington Beach in May, 2001. The date, location and time of the public scoping meeting will be announced in the local news media at least two weeks prior to the meeting. A separate notice of this meeting will be sent to all parties on the study mailing list.

Individuals and agencies may offer information or data relevant to the environmental or socioeconomic impacts by attending the public scoping meeting. Comments, suggestions, and requests to be placed on the mailing list for announcements should be sent to Stephanie J. Hall, U.S. Army Corps of Engineers, Los Angeles District, P.O. Box 532711, Los Angeles, CA 90053-2325, ATTN: CESPL-PD-RN, or the following E-mail address: shall@spl.usace.army.mil.

Availability of the Draft EIS: The Draft EIS is scheduled to be published and circulated in March 2002, and a public hearing to receive comments on the Draft EIS will be held after it is published.

Dated: March 23, 2001.
John P. Carroll,
Colonel, Corps of Engineers, District Engineer.

[FR Doc. 01-10013 Filed 4-23-01; 8:45 am]

BILLING CODE 3710-KF-M